DEPARTMENT OF HEALTH AND HUMAN SERVICES

Administration for Children and Families

Proposed Information Collection Activity; Adoption Call to Action Data Collection (New Data Collection)

AGENCY: Administration on Children, Youth and Families, Administration for Children and Families, HHS.

ACTION: Request for public comment.

SUMMARY: The Administration on Children, Youth and Families (ACYF), Administration for Children and Families (ACF), U.S. Department of Health and Human Services (HHS), is proposing to collect data for a new descriptive study, Adoption Call to Action (ACTA) Data Collection.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION: Description: The ACTA is an effort by the ACF Children's Bureau. The purpose of the ACTA is to engage child welfare agencies to improve the timeliness and likelihood of permanency for children who are waiting for adoption. This new information collection will provide the Children's Bureau with an understanding of agency target populations, specific strategies (interventions), and outcomes measurement, in order to inform technical assistance strategies and provide a national picture of the overall success of the initiative. Baseline data will be collected with an initial survey (Baseline Survey), followed by two administrations of a follow-up survey instrument (Progress Update Survey) designed to collect process and outcome measures at two additional points in time. The instruments focus on: (1) Identifying the target population(s) agencies are addressing, (2) understanding elements of intervention implementation (process measures), and (3) capturing information related to the outcomes of these efforts.

Respondents: Respondents of these data collection instruments will include one representative from each of the 53 child welfare agencies who are participating in ACTA activities.

Annual Burden Estimates
Instrument | Total number of respondents | Total number of responses per respondent | Average burden hours per response | Total burden hours | Annual burden hours
Adoption Call to Action: Baseline Survey | 53 | 1 | .33 | 18 | 6
Adoption Call to Action: Progress Update | 53 | 2 | .25 | 27 | 9

Estimated Total Annual Burden Hours: 15.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 203 of Section II: Adoption Opportunities of the Child Abuse Prevention and Treatment Act (42 U.S.C. 5113).

Molly B. Jones,
ACF/OPRE Certifying Officer.

[FR Doc. 2020-03579 Filed 2-21-20; 8:45 am]

BILLING CODE 4184-01-P